DEPARTMENT OF LABOR

Employment and Training Administration

[TA-W-56,322]

Roseburg Forest Products Particleboard Plant, a Subsidiary of RLC Industries, Roseburg, OR; Notice of Affirmative Determination Regarding Application for Reconsideration

By letter dated March 29, 2005, the Western Council of Industrial Workers, Local 2949, requested administrative reconsideration of the Department of Labor's Notice of Negative Determination Regarding Eligibility to Apply for Worker Adjustment Assistance, applicable to workers of the subject firm. The determination was signed on February 4, 2005 and the Department's Notice of determination was published in the Federal Register on March 9, 2005 (70 FR 11703). The workers of the subject company produce particleboard.

The negative determination was based on the findings that subject company sales and production increased during the investigatory period, that the subject company did not have any imports of like or directly competitive products, and that the subject company did not shift particleboard production abroad.

In the request for reconsideration, the petitioner alleges that particleboard production decreased during the relevant period.

The Department has carefully reviewed the request for reconsideration and has determined that the Department will conduct further investigation based on new information provided by the petitioner.

Conclusion

After careful review of the application, I conclude that the claim is of sufficient weight to justify reconsideration of the Department of Labor's prior decision. The application is, therefore, granted.

Signed at Washington, DC, this 6th day of April 2005.
Elliott S. Kushner,
Certifying Officer, Division of Trade Adjustment Assistance.

[FR Doc. E5-1926 Filed 4-22-05; 8:45 am]

BILLING CODE 4510-30-P